DEPARTMENT OF ENERGY

Federal Energy Regulatory Commission

[Docket No. RP00-337-006]

Kern River Gas Transmission Company; Notice of Compliance Filing

July 16, 2003.

Take notice that on July 10, 2003, Kern River Gas Transmission Company (Kern River) tendered for filing as part of its FERC Gas Tariff, Second Revised Volume No. 1, the tariff sheets listed below:

Original Sheet No. 8

Sheet No. 9 (Reserved)

Original Sheet No. 69-B

Original Sheet No. 69-C

Original Sheet No. 69-D

Original Sheet No. 69-E

Original Sheet No. 69-F

First Revised Sheet No. 200

First Revised Sheet No. 201

First Revised Sheet No. 202

Original Sheet No. 214

Sheet Nos. 215-299 (Reserved)

Second Revised Sheet No. 305

Original Sheet No. 339

Original Sheet No. 340

Original Sheet No. 341

Original Sheet No. 342

Sheet Nos. 343-349 (Reserved)

Second Revised Sheet No. 402

Kern River states that the purpose of this filing is to comply with the Commission's June 25, 2003 Order in this proceeding (1) by submitting revised tariff sheets pertaining to Kern River's existing segmentation provisions; and (2) by submitting actual tariff sheets to implement Kern River's proposed park and loan service.

Kern River states that it has served a copy of this filing upon each person designated on the official service list compiled by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 22, 2003.

Magalie R. Salas,
Secretary.

[FR Doc. 03-18663 Filed 7-21-03; 8:45 am]

BILLING CODE 6717-01-P